DEPARTMENT OF DEFENSE

Office of the Secretary

Meeting of the Defense Business Board (DBB)

AGENCY: Department of Defense.

ACTION: Meeting notice; cancellation.

SUMMARY: The Department of Defense published an announcement of a meeting of the Defense Business Board (DBB) on October 1, 2009 (74 FR 50782-50783). The meeting was scheduled for October 22, 2009. This meeting has been cancelled. This meeting may be rescheduled and announced at a later date.

FOR FURTHER INFORMATION CONTACT: Ms. Debora Duffy, Defense Business Board, 1155 Defense Pentagon, Room 5B-1088A, Washington, DC 20301-1155, Debora.duffy@osd.mil, (703) 697-2168.

Dated: October 7, 2009.
Patricia L. Toppings,
OSD Federal Register Liaison Officer, Department of Defense.

[FR Doc. E9-24888 Filed 10-15-09; 8:45 am]

BILLING CODE 5001-06-P